DEPARTMENT OF TRANSPORTATION

Federal Aviation Administration

Notice of Intent To Release Certain Properties From all Terms, Conditions, Reservation and Restrictions of a Quitclaim Deed Agreement Between the City of Fernandina Beach and the Federal Aviation Administration for the Fernandina Beach Municipal Airport, Fernandina Beach, FL

AGENCY: Federal Aviation Administration (FAA), DOT.

ACTION: Request for public comment.

SUMMARY: The FAA hereby provides notice of intent to release certain airport properties (approximately 28.43 acres) at the Keystone Airpark, Starke, FL from the conditions, reservations, and restrictions as contained in a Quitclaim Deed agreement between the FAA and the Town of Keystone Heights, dated August 21, 1947. The release of property will allow the Keystone Airpark Authority to dispose of the property for other than aeronautical purposes. The property is located in the southwest corner of the airport west of State Road 100 in proximity to the approach of Runway 4. The parcel is currently designated as non-aeronautical use. The property will be disposed of for the purpose of conveying title to the United States Department of the Interior for the protection of the Florida National Scenic Trail. The fair market value of the property has been determined by appraisal to be $410,000. The airport will receive fair market value for the property, which will be subsequently reinvested in another eligible airport improvements project.

Documents reflecting the Sponsor's request are available, by appointment only, for inspection at the Airpark Clerk's office and the FAA Airports District Office.

SUPPLEMENTARY INFORMATION: Section 125 of The Wendell H. Ford Aviation Investment and Reform Act for the 21st Century (AIR-21) requires the FAA to provide an opportunity for public notice and comment prior to the “waiver” or ”modification“ of a sponsor's Federal obligation to use certain airport land for non-aeronautical purposes.

DATE: February 26, 2005.

ADDRESSES: Documents are available for review at the Airport Clerk's office, Keystone Airpark Authority, 7100 Airport Road, Starke, FL 32091-9347, and the FAA Airports District Office, 5950 Hazeltine National Drive, Suite 400, Orlando, FL 32822. Written comments on the Sponsor's request must be delivered or mailed to: Richard M. Owen, Program Manager, Orlando Airports District Office, 5950 Hazeltine National Drive, Suite 400, Orlando, FL 32822-5024.

FOR FURTHER INFORMATION CONTACT: Richard M. Owen, Program Manager, Orlando Airports District Office, 5950 Hazeltine National Drive, Suite 400, Orlando, FL 32822-5024.

W. Dean Stringer,
Manager, Orlando Airports District Office, Southern Region.

[FR Doc. 05-1409 Filed 1-25-05; 8:45 am]

BILLING CODE 4910-13-M